DEPARTMENT OF COMMERCE

International Trade Administration

[A-428-831]

Notice of Final Determination of Sales at Less Than Fair Value: Structural Steel Beams From Germany

AGENCY: Import Administration, International Trade Administration, Department of Commerce.

ACTION: Notice of final determination of sales at less than fair value.

SUMMARY: On December 28, 2001, the Department of Commerce published the preliminary determination of sales at less than fair value of structural steel beams from Germany. The period of investigation is April 1, 2000, through March 31, 2001.

Based on our analysis of the comments received and certain findings from the verification, we have made changes in the margin calculations. Therefore, the final determination differs from the preliminary determination.

We find that structural steel beams from Germany are being, or are likely to be, sold in the United States at less than fair value as provided in section 735 of the Tariff Act of 1930, as amended. The estimated margins of sales at less than fair value are shown in the “Continuation of Suspension of Liquidation” section of this notice.

EFFECTIVE DATE: May 20, 2002.

FOR FURTHER INFORMATION CONTACT: Thomas Schauer, Import Administration, International Trade Administration, U.S. Department of Commerce, 14th Street and Constitution Avenue, NW., Washington, DC 20230; telephone: (202) 482-0410.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations are to the provisions codified at 19 CFR part 351 (2001).

Final Determination

We determine that structural steel beams (beams) from Germany are being, or are likely to be, sold in the United States at less than fair value (LTFV), as provided in section 735 of the Act. The estimated margins of sales at LTFV are shown in the “Final Margin” section of this notice.

Scope of Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W”shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors or attachments to I-sections, H-sections, or pilings; however, if the only additional weldment, connector or attachment on the beam is a shipping brace attached to maintain stability during transportation, the beam is not removed from the scope definition by reason of such additional weldment, connector or attachment.

The merchandise subject to this investigation is classified in the Harmonized Tariff Schedule of the United States (HTSUS) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Scope Comments

Prior to the preliminary determination in this case, interested parties in this and the concurrent structural steel beams investigations requested that the following products be excluded from the scope of the investigations: (1) Beams of grade A913/65 and (2) forklift mast profiles. We preliminarily found that both products fell within the scope of this investigation. Because we have received no further scope comments in this proceeding, we are making a final determination that these products fall within the scope of this investigation.

Case History

We published in the Federal Register the preliminary determination in this investigation on December 28, 2001. See Notice of Preliminary Determination of Sales at Less Than Fair Value and Postponement of Final Determination: Structural Steel Beams From Germany, 66 FR 67190 (December 28, 2001) (Preliminary Determination). Since the publication of the Preliminary Determination, the following events have occurred.

On January 2, 2002, Stahlwerk Thüringen GmbH (SWT), a respondent in this investigation, requested that the Department correct a ministerial error it found in the Department's margin calculations. On January 7, 2002, the Committee for Fair Beam Imports and its individual members, Northwestern Steel and Wire Company, Nucor Corporation, Nucor-Yamato Steel Company, and TXI-Chaparral Steel Company (the petitioners), requested that the Department correct ministerial errors they found in the Department's margin calculation for SWT. On January 31, 2002, the Department determined that the ministerial error alleged by SWT was a significant ministerial error within the meaning of 19 CFR 351.224(g)(1) but that the errors alleged by the petitioners were not ministerial errors. Accordingly, we corrected the error identified by SWT. We published in the Federal Register our amended preliminary determination in this investigation on January 31, 2002. See Notice of Amended Preliminary Determination of Sales at Less Than Fair Value: Structural Steel Beams From Germany, 67 FR 4703 (January 31, 2002).

On January 21 through 25, 2002, the Department conducted verifications of three of SWT's affiliated resellers in Germany to examine SWT's claim that it could not report downstream sales by its affiliated resellers. See Sales Verifications of Affiliated Resellers, Memorandum to the File dated March 1, 2002. On January 28 through 31, 2002, the Department conducted a verification of SWT's cost-of-production (COP) and constructed-value (CV). See SWT COP and CV verification report dated March 20, 2002. On January 28 through February 5, 2002, the Department conducted a home-market sales data verification of SWT. See SWT home-market sales verification report dated April 2, 2002. On March 11 through 15, 2002, the Department conducted a U.S. sales data verification of TradeARBED Corporation (TANY), an affiliated U.S. reseller of merchandise produced by SWT. See TANY U.S. sales verification report dated March 28, 2002.

On April 11, 2002, the petitioners and SWT submitted their case briefs with respect to the verifications and the Preliminary Determination. On April 17, 2002, the petitioners and SWT submitted rebuttal briefs. On April 19, 2002, we conducted a public hearing with a closed session with respect to the issues raised in the parties' case briefs.

Period of Investigation

The period of investigation (POI) is April 1, 2000, through March 31, 2001.

Use of Facts Available

In the Preliminary Determination, we determined that the application of total adverse facts available was appropriate with respect to Salzgitter AG (Salzgitter), as this entity failed to respond to our antidumping questionnaire. As adverse facts available, we applied a margin rate of 35.75 percent, the highest margin alleged in the petition (which we were able to corroborate). See the Decision Memorandum for Salzgitter AG for the Preliminary Results of the Less-Than-Fair-Value Investigation of Structural Steel Beams from Germany for the Period of Investigation April 1, 2000, through March 31, 2001, dated December 19, 2001. The interested parties did not object to the use of AFA for Salzgitter, or to our choice of facts available, and no new facts were submitted since the Preliminary Determination which would cause us to reconsider whether the information relied upon in the petition has probative value. Therefore, for the reasons set out in the Preliminary Determination, we have continued to use 35.75 percent as adverse facts available for the purposes of this final determination.

We used facts available for SWT's international freight expenses. As facts available, we used the average ocean-freight expense SWT reported for west-coast ports for all U.S. sales transactions except for those specific transactions where the reported ocean-freight expense was higher than this average. For a complete discussion of why we used facts available for these sales and the selection of facts available, see comment 1 of the Structural Steel Beams from Germany Issues and Decisions Memorandum dated May 13, 2002 (Decision Memorandum), available in B-099 of the Central Records Room at the Department of Commerce and the web at http://ia.ita.doc.gov/frn/index.html.

Finally, we used adverse facts available for SWT's U.S. brokerage and handling expenses. We did this because, when we asked at verification for the documents to support the reported expense for ports other than the two we examined, TANY informed us that it was not prepared to provide these invoices, claiming that they were “not available.” See the TANY verification report at page 11. Therefore, because TANY was unprepared to provide the documents in question at verification, although it was given adequate notice that these documents would be reviewed,¹ we find that it did not act to the best of its ability in reporting its brokerage and handling expenses related to certain U.S. ports. Accordingly, we have based the amount of brokerage and handling expenses for these ports on adverse facts available. As adverse facts available, we have used SWT's highest per-port amount on the record of this proceeding. For a further discussion of this issue, see comment 11 of the Structural Steel Beams from Spain Issues and Decisions Memorandum dated May 13, 2002. However, because TANY was able to provide adequate documentation for two of the ports in question, we have accepted the expenses calculated for those ports for purposes of the final determination.

¹ See the February 27, 2002, verification outline for TANY at page 10.

Analysis of Comments Received

All issues raised in the case briefs by parties to this investigation are addressed in a decision memorandum, which is hereby adopted by this notice. See the Decision Memorandum. A list of the issues which parties raised, and to which we have responded, all of which are in the Decision Memorandum, is attached to this notice as an Appendix. As indicated above, parties can find a complete discussion of all issues raised in this investigation and the corresponding recommendations in this public memorandum, which is on file in B-099. In addition, a complete version of the Decision Memorandum can be accessed directly on the internet at http://ia.ita.doc.gov/frn/index.html. The paper copy and electronic version of the Decision Memorandum are identical in content.

Verification

As provided in section 782(i) of the Act, we verified the information submitted by SWT for use in our final determination. We used standard verification procedures including examination of relevant accounting and production records as well as original source documents provided by the respondents.

Changes Since the Preliminary Determination

Based on our findings at verification and analysis of comments received, we have made adjustments to the calculation methodology in calculating the final dumping margins for SWT in this investigation. See Final Analysis Memoranda for SWT dated May 13, 2001. These revisions are as follows:

1. We used the cost-of-production (COP) database that SWT submitted on January 14, 2002, the home-market sales database that it submitted on February 21, 2002, and the U.S. sales database that it submitted on April 16, 2002.

2. We used the reported date of shipment as the date of sale for U.S. sales. We also revised SWT's reported credit expense and inventory carrying costs accordingly, using the short-term borrowing rate we verified. See the TradeARBED Corporation (TANY) U.S. sales verification report dated March 28, 2002, at page 12.

3. We revised SWT's reported billing adjustments to include two claims that we found, at verification, that TANY did not account for in its reported billing adjustments.

4. We revised SWT's U.S. indirect selling expenses to allocate a portion of Arbed Americas Atlantic, Inc.'s selling expenses to TANY rather than use the rate we calculated for ARBED Americas, Inc. In addition, we did not include any of TANY's or Arbed Americas Atlantic, Inc.'s interest expenses in our calculation of TANY's indirect selling expense because the imputed credit which we calculated exceeded the amount of interest expense attributable to TANY's sales of SWT beams. See the SWT final results calculation memorandum dated May 13, 2002, at attachment 2 for our calculation of indirect selling expenses.

5. We replaced the warranty expense SWT reported in its February 21, 2002, home-market sales database with the verified transaction-specific warranty expense we verified in SWT's home-market sales database which it submitted on January 14, 2002. Because SWT did not provide observation numbers, we identified the specific transactions for which the warranty expenses were reported by invoice, product code, and quantity.

6. As partial facts available, we used the average ocean-freight expense SWT reported for Los Angeles, San Francisco/Oakland, and Portland for all U.S. sales transactions except for those specific transactions where the reported ocean-freight expense was higher than this average.

7. As adverse facts available, we used the highest per-port amount for U.S. brokerage and handling expenses on the record of this proceeding for all U.S. transactions except for sales through two ports.

8. We revised the financial-expense rate to include other financial charges and bond expenses and to exclude long-term interest income offsets from the numerator. We also revised the denominator in the calculation to reflect cost of goods sold rather than raw materials.

9. We subtracted home-market billing adjustments from home-market price instead of adding them to home-market price.

Continuation of Suspension of Liquidation

In accordance with section 735(c)(1)(B)(ii) of the Act, for SWT, we are directing the Customs Service to suspend liquidation of all entries of subject merchandise from Germany that are entered, or withdrawn from warehouses, for consumption on or after the date of publication of the final determination in the Federal Register. For all other companies, we are directing the Customs Service to continue to suspend liquidation of all entries of subject merchandise from Germany that are entered, or withdrawn from warehouses, for consumption on or after December 28, 2001, the date of publication of the Preliminary Determination in the Federal Register. The Customs Service shall continue to require a cash deposit or posting of a bond equal to the estimated amount by which the normal value exceeds the U.S. price as shown below. This suspension-of-liquidation instruction will remain in effect until further notice.

The weighted-average dumping margins are as follows:

Exporter/manufacturer | Weighted- average percent margin
SWT | 8.09
Salzgitter | 35.75
All Others ** | 8.09
** Pursuant to section 735(c)(5)(A), we have excluded from the calculation of the all-others rate margins which are zero (or de mimimis) or determined entirely on facts available. Because we determined Salzgitter's margin entirely on facts available, we used SWT's margin as the all-others rate.

ITC Notification

In accordance with section 735(d) of the Act, we have notified the International Trade Commission (ITC) of our determination. As our final determination is affirmative, the ITC will, within 45 days, determine whether these imports are materially injuring, or threaten material injury to, the U.S. industry. If the ITC determines that material injury, or threat of material injury, does not exist, the proceeding will be terminated and all securities posted will be refunded or canceled. If the ITC determines that such injury does exist, the Department will issue an antidumping duty order directing Customs officials to assess antidumping duties on all imports of the subject merchandise entered for consumption on or after the effective date of the suspension of liquidation.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This determination is issued and published in accordance with sections 735(d) and 777(i)(1) of the Act.

Dated: May 13, 2002.
Faryar Shirzad,
Assistant Secretary for Import Administration.

Appendix

I. Changes From the Preliminary Determination

II. Company-Specific Issues

Comment 1: Ocean Freight Expenses Through An Affiliate

Comment 2: Date of Sale for Constructed-Export-Price Transactions

Comment 3: Sales by Affiliated Resellers in Germany

Comment 4: Home-Market Inland Freight

Comment 5: Home-Market Quantity Rebates

Comment 6: Home-Market Warranties

Comment 7: Home-Market Other Rebates

Comment 8: U.S. Billing Adjustments

Comment 9: U.S. Indirect Selling Expenses

Comment 10: Interest Expense

Comment 11: Clerical-Error Allegation

Comment 12: Calculation of Weighted-Average Dumping Margin

[FR Doc. 02-12596 Filed 5-17-02; 8:45 am]

BILLING CODE 3510-DS-P